DEPARTMENT OF EDUCATION

[Docket No.: ED-2014-ICCD-0139]

Agency Information Collection Activities; Comment Request; Evaluation of Preschool Special Education Practices Phase I

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before December 8, 2014.

ADDRESSES: Comments submitted in response to this notice should be submitted electronically through the Federal eRulemaking Portal at http://www.regulations.gov by selecting Docket ID number ED-2014-ICCD-0139 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E105, Washington, DC 20202.

FOR FURTHER INFORMATION CONTACT: For specific questions related to collection activities, please contact Yumiko Sekino, 202-219-2046.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of Preschool Special Education Practices Phase I.

OMB Control Number: 1850-NEW.

Type of Review: A new information collection.

Respondents/Affected Public: State, Local and Tribal Governments.

Total Estimated Number of Annual Responses: 1,251.

Total Estimated Number of Annual Burden Hours: 609.

Abstract: The main objective of the Evaluation of Preschool Special Education Practices, Phase I study is to assess the feasibility of conducting a large-scale randomized controlled trial (RCT) evaluation of one or more curricula or interventions that are used with preschool children with disabilities to promote their learning of language, literacy, social-emotional skills, and/or appropriate behavioral skills for school. The feasibility assessment will consider the core features of an evaluation design, including the following: (1) Curricula and/or interventions to be evaluated; (2) Study context and participants; and (3) Key design elements, such as the counterfactual condition, unit of assignment, target minimum detectable effects (MDEs), sample size, and data collection plans.

Data to inform the feasibility assessment will be obtained through surveys of school district preschool special education coordinators and state Section 619 coordinators, the subject of the current submission. Preschool special education coordinators in school districts and state Section 619 coordinators will provide information to address the study's overarching research question—whether there are promising curricula and interventions for preschool children with disabilities for which a large-scale effectiveness trial would be feasible and add value to the field. The district survey will be administered in a nationally representative sample of 1,200 school districts serving preschool children with disabilities as a 30-minute web survey. The state survey will be administered in all 50 states and the District of Columbia as a 10-minute editable PDF survey. Data collection for each survey will begin in April 2015.

The feasibility assessment will also be informed by use of extant data and conduct of an evidence review. In addition to collected survey data, extant data will provide information about preschool special education programs, the curricula and interventions that are available and supported by these programs, and the context in which curricula and interventions are delivered to inform decisions about key design elements. The evidence review will identify promising curricula and interventions for preschool children with disabilities and features about their implementation in schools.

Information obtained as part of the data collection for Phase I will be used to develop a publicly available report to provide educators and policymakers with nationally representative descriptive information about current preschool special education programs. If the Institute of Education Sciences (IES) decides to sponsor an RCT following the feasibility assessment, separate OMB packages will be submitted that request clearance for recruitment and data collection activities for the RCT.

Dated: October 2, 2014.
Stephanie Valentine,
Acting Director, Information Collection Clearance Division, Privacy, Information and Records Management Services, Office of Management.

[FR Doc. 2014-23958 Filed 10-7-14; 8:45 am]

BILLING CODE 4000-01-P